DEPARTMENT OF TRANSPORTATION

Federal Railroad Administration

Railroad Crossing Elimination Grant Program

AGENCY: Federal Railroad Administration (FRA), Department of Transportation (DOT).

ACTION: Notice of funding opportunity (NOFO or notice); extension of application submittal period.

SUMMARY: FRA is extending the application submittal period for its NOFO for the Railroad Crossing Elimination Grant Program (RCE Program) published on July 6, 2022 from October 4, 2022 to October 11, 2022.

DATES: FRA extends the NOFO application period and applications are now due by 5 p.m. ET on October 11, 2022.

FOR FURTHER INFORMATION CONTACT: For further information related to this notice and the RCE Program, please contact Deborah Kobrin, Office of Policy and Planning, Federal Railroad Administration, 1200 New Jersey Avenue SE, Room W33-311, Washington, DC 20590; email: or telephone:202-420-1281.

SUPPLEMENTARY INFORMATION: FRA amends its NOFO for the Railroad Crossing Elimination Grants Program published on July 6, 2022 (87 FR 40335) by extending the period for submitting applications to 5 p.m. ET on October 11, 2022. The reason for the extension is the scheduled downtime and cloud migration of Grants.gov, which will be offline from September 23, 2022 through September 29, 2022.

Issued in Washington, DC.
Amitabha Bose,
Administrator.

[FR Doc. 2022-20475 Filed 9-21-22; 8:45 am]

BILLING CODE 4910-06-P